DEPARTMENT OF TRANSPORTATION

Coast Guard

33 CFR Part 117

[CGD01-01-176]

Drawbridge Operation Regulations: Newtown Creek, Dutch Kills, English Kills and Their Tributaries, NY

AGENCY: Coast Guard, DOT.

ACTION: Notice of temporary deviation from regulations.

SUMMARY: The Commander, First Coast Guard District, has issued a temporary deviation from the drawbridge operation regulations for the Pulaski Bridge, mile 0.6, across Newtown Creek between Brooklyn and Queens, New York. This deviation allows the bridge to remain in the closed position from 7 a.m. on October 20, 2001 through 8 p.m. on October 21, 2001, to facilitate painting at the bridge.

DATES: This deviation is effective from October 20, 2001 through October 21, 2001.

FOR FURTHER INFORMATION CONTACT: Joseph Schmied, Project Officer, First Coast Guard District, at (212) 668-7165.

SUPPLEMENTARY INFORMATION: The Pulaski Bridge, at mile 0.6, across Newtown Creek has a vertical clearance of 39 feet at mean high water, and 43 feet at mean low water in the closed position.

The existing drawbridge operation regulations are listed at 33 CFR 117.801(g) and require the draw to open on signal if at least a two-hour advance notice is given.

The bridge owner, New York City Department of Transportation, requested a temporary deviation from the drawbridge operating regulations to facilitate painting at the bridge that can only be safely performed while the bridge is in the closed position.

This deviation to the operating regulations allows the Pulaski Bridge to remain in the closed position from 7 a.m. on October 20, 2001 through 8 p.m. on October 21, 2001.

This deviation from the operating regulations is authorized under 33 CFR 117.35 and will be performed with all due speed in order to return the bridge to normal operation as soon as possible.

Dated: September 27, 2001.
G.N. Naccara,
Rear Admiral, U.S. Coast Guard, Commander, First Coast Guard District.

[FR Doc. 01-25282 Filed 10-5-01; 8:45 am]

BILLING CODE 4910-15-U